LEGAL SERVICES CORPORATION

Sunshine Act Meeting of the Board of Directors Operations & Regulations Committee

Time and Date: The Operations and Regulations Committee of the Legal Services Corporation Board of Directors will meet on November 16, 2001. The meeting will begin at 2:00 p.m. and continue until the Committee concludes its agenda.

LOCATION: Marriott at Metro Center, 775 12th Street, NW., Washington, DC.

Status of Meeting: Open.

Matters to be Considered: 1. Approval of agenda.

2. Approval of the minutes of the Committee's meeting of September 7, 2001.

3. Consider and act on the Draft Notice of Proposed Rulemaking (“DNPRM”) on 45 CFR Part 1639 (Welfare Reform). A copy of the DNPRM is available on the LSC Web site: www.lsc.gov.

4. Staff report on public comments received on the Final Report of the Regulations Review Task Force.

5. Staff report on the status of Current Negotiated Rulemakings: 45 CFR Part 1626 (Restrictions on Legal Assistance to Aliens); and 45 CFR Part 1611 (Eligibility).

6. Consider and act on other business.

7. Public comment.

CONTACT PERSON FOR INFORMATION: Victor M. Fortuno, Vice President for Legal Affairs, General Counsel & Corporate Secretary, at (202) 336-8800.

Special Needs: Upon request, meeting notices will be made available in alternate formats to accommodate visual and hearing impairments. Individuals who have a disability and need an accommodation to attend the meeting may notify Elizabeth S. Cushing, at (202) 336-8800.

Dated: November 8, 2001.
Victor M. Fortuno,
Vice President for Legal Affairs, General Counsel & Corporate Secretary.

[FR Doc. 01-28545 Filed 11-08-01; 3:37 pm]

BILLING CODE 7050-01-P